Title 3—

The President

Proclamation 8519 of May 13, 2010

Emergency Medical Services Week, 2010

By the President of the United States of America

A Proclamation

Every day of the year, at all hours of the day and night, we rely on emergency medical services (EMS) professionals and volunteers for critical care in our homes, on our roads, in our hospitals, and wherever needs exist. EMS teams serve all Americans, standing ready to respond at a moment’s notice, and tirelessly enhancing our country’s preparedness and resilience. During Emergency Medical Services Week, we recommit to supporting all EMS providers, and we celebrate their selflessness and courageous contributions to our Nation.

Our EMS system includes a wide array of dedicated specialists, including emergency medical technicians, 9-1-1 dispatchers, paramedics, firefighters, law enforcement officials, educators, nurses, and physicians. From rural regions of our Nation to our busiest urban centers, EMS teams provide access to quality care when unforeseen illness, injury, or disaster strikes. The aid they administer cuts across various disciplines and often requires split-second decisions, essential to preventing disability or death among their fellow citizens.

My Administration is committed to supporting EMS providers and their important mission. The Affordable Care Act, which I signed into law this year, authorizes innovative new emergency care and trauma systems, and improves and expands EMS for children. It also prohibits insurance companies from imposing prior authorization requirements or increased cost-sharing for emergency services.

EMS providers spend long hours to further their medical education, train themselves on the latest life-saving techniques, and maintain vital emergency equipment, often choosing to do so on their own time and at their own expense. Many communities rely heavily, or even exclusively, on committed volunteers to provide out-of-hospital EMS. The role of EMS providers extends beyond performing services themselves, however. They also act as instructors to train ordinary Americans, because bystanders are often the first to arrive at the scene of a crisis. These heroic professionals, volunteers, and citizens form a network that has long supported our health care system, and their example is an inspiration to us all.

NOW, THEREFORE, I, BARACK OBAMA, President of the United States of America, by virtue of the authority vested in me by the Constitution and the laws of the United States, do hereby proclaim May 16 through May 22, 2010, as Emergency Medical Services Week. I encourage all Americans to observe this occasion with programs and activities to support their local EMS workers and to improve their own safety and preparedness skills.

IN WITNESS WHEREOF, I have hereunto set my hand this thirteenth day of May, in the year of our Lord two thousand ten, and of the Independence of the United States of America the two hundred and thirty-fourth.

[FR Doc. 2010-12069

Filed 5-17-10; 11:15 am]

Billing code 3195-W0-P